DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Cross-Site Evaluation of the National Child Traumatic Stress Initiative (NCTSI)—(OMB No. 0930-0276)—Revision

The Substance Abuse and Mental Health Services Administration's (SAMHSA's), Center for Mental Health Services (CMHS) will conduct the Cross-Site Evaluation of the National Child Traumatic Stress Initiative (NCTSI). The data collected will describe the children and families served by the National Child Traumatic Stress Network (NCTSN) and their outcomes, assess the development and dissemination of effective treatments and services, evaluate intra-network collaboration, and assess the Network's impact beyond the NCTSN.

Data will be collected from caregivers, youth, NCTSN staff (e.g., project directors, researchers, and providers), mental health providers outside of the NCTSN, and non-mental health service providers who provide services to children outside of the NCTSN. Data collection will take place in all Community Treatment and Services Programs (CTS) and Treatment and Service Adaptation Centers (TSA) active during the three-year approval period, and 2 National Centers for Child Traumatic Stress (NCCTS). Currently, there are 37 CTS centers and 13 TSA centers active, though this number could drop to 18 CTS centers and 5 TSA centers in 2009 depending on the number of new centers funded in that year. Throughout, burden estimates are calculated for an average of 44 centers in each year.

The Cross-site Evaluation is composed of eight distinct study components, seven of which involve data collection and are described below.

Descriptive and Clinical Outcomes

In order to describe the children served, their trauma histories and their clinical and functional outcomes, five instruments will be used to collect data from youth ages 7-18 who are receiving services in the NCTSN, and from caregivers of all children who are receiving NCTSN services. Data will be collected when the child/youth enters services and during subsequent follow-up sessions at three-month intervals over the course of one year. This study relies upon the use of data already being collected as a part of the Network's Core Data Set, and includes the following five instruments:

• The Core Clinical Characteristics Form, which collects demographic, psychosocial and clinical information about the child being served including information about the child's domestic environment and insurance status, indicators of the severity of the child's problems, behaviors and symptoms, and use of non-Network services;

• The Trauma Information/Detail Form, which collects information on the history of trauma(s) experienced by the child being served in the NCTSN including the type of trauma experienced, the age at which the trauma was experienced, type of exposure, whether or not the trauma is chronic, and the setting and perpetrator(s) associated with the traumatic experience;

• The Child Behavior Checklist (CBCL) 1.5-5 and 6-18, which measures symptoms in such domains such as emotionally reactive, anxious/depressed, somatic complaints, withdrawn, attention problems, aggressive behavior, sleep problems, rule-breaking behavior, social problems, thought problems, and withdrawn/depressed;

• The UCLA PTSD Short Form, which screens for exposure to traumatic events and for all DSM-IV PTSD symptoms in children who report traumatic stress experiences; and the

• Trauma Symptoms Checklist for Children-Abbreviated (TSCC-A), which evaluates acute and chronic posttraumatic stress symptoms in children's responses to unspecified traumatic events across several symptom domains.

Approximately 1,900 youth and 2,500 caregivers will participate in the descriptive and clinical outcomes study, with caregivers responding to four instruments, and youth responding to one.

Consumer Satisfaction

In order to assess the level of satisfaction with services received by NCTSN centers, caregivers participating in the descriptive and clinical outcomes study are also given the opportunity to report satisfaction using the Youth Services Survey for Families (YSS-F) instrument. Caregivers complete this survey, via mail or phone, once upon completion of services, or after six months of services, whichever comes first. The survey assesses perceptions of service across five domains: access, participation in treatment, cultural sensitivity, satisfaction, and outcomes. Approximately 2,500 caregivers will participate in the consumer satisfaction study. This study utilizes a single instrument, the YSS-F.

Adoption of Methods and Practices

This study is designed to evaluate the extent to which trauma-related practices, knowledge, methods, and products, particularly products created or disseminated by the NCTSN, are being adopted by Network centers and non-Network partners, and involves data collection using two distinct instruments. The General Adoption and Assessment Survey (GAAS) is used to ascertain the degree to which the various products and practices developed by network members are being adopted by each of the grantee sites. Question areas include the experience and role of the respondent; which products are being adopted; the stage of adoption process; the fidelity of the adoption implementation; the methods employed to bring the product into use; the facilitators of the adoption process; and the barriers to adoption. The GAAS will be administered to approximately 14,040 service providers, 44 project directors, and 44 researchers/evaluators once per year throughout the course of the evaluation. The Adoption and Implementation Factors Interview (AIFI) is a follow-up interview on product adoption that will be conducted with 150 network providers, 45 project directors/principal investigators, and 30 researchers/evaluators. The AIFI obtains information leading to an assessment of successful adoption and implementation processes and an understanding of the characteristics of the centers that result in adoption of network supported methods and practices. This study utilizes two instruments, the GAAS and the AIFI. Three versions of the GAAS will be utilized: The General Adoption Assessment Survey (GAAS) Providers, the General Adoption Assessment Survey (GAAS) Administrators, and the General Adoption Assessment Survey (GAAS) Evaluators. Three versions of the AIFI will be administered: Adoption and Implementation Factors Interview (AIFI) Provider Assessment & Clinical Components, Adoption and Implementation Factors Interview (AIFI) Administrator Assessment & Clinical Components, and the Adoption and Implementation Factors Interview (AIFI).

Network Collaboration

The network collaboration study also utilizes two separate data collection activities. The Network Survey utilizes network analysis techniques to measure the extent to which each NCTSN center interacts with every other center on selected key Network activities (governance/decision-making, information sharing, coordination of activities, product development, product dissemination and adoption, and training and technical assistance). The survey is administered to 84 current or former project directors/principal investigators, and to 44 other current NCTSN staff members. The Child Trauma Partnership Tool assesses the activities and impact of the NCTSN collaboration structures (Work Groups, Committees, Consortia) in terms of membership activities, vision, formalization, leadership, management, communication, decision-making, resource allocation, understanding/valuing, and accomplishments. It is administered approximately 200 NCTSN staff members who make up the formal Network workgroups. The two surveys associated with this data collection, the Network Survey and the Child Trauma Partnership Tool, will be administered in alternating years of the evaluation.

Provider Knowledge and Use of Trauma-informed Services

This study assesses the extent to which funded Network centers enhance the trauma-informed service knowledge base and use among service providers affiliated with the Network through training and outreach activities. The Provider Trauma-informed Services (TIS) Survey, which collects data on respondent characteristics, knowledge acquisition, predicted knowledge utilization, and overall training satisfaction, is administered to providers following Network center-sponsored training events. TIS Survey data will be collected from approximately 29,250 providers over the next three years of the evaluation. In addition, center trainers complete one TIS Training Summary Form, summarizing the content of the training, for every training event (approximately 1,463 over the next three years). This study utilizes two instruments, the TIS Survey and the TIS Training Summary Form.

Product Development and Dissemination

This study identifies and describes the products developed and disseminated to Network and non-Network partners. Three methods of data collection are used in this study: The Product/Innovation Development and Dissemination Survey (PDDS), telephone interviews with existing NCTSN collaborative workgroup/taskforce coordinators (chairpersons), and case studies. The PDDS is included and completed as part of centers' quarterly progress reports, and is gathered quarterly from 44 project directors/principal investigators. More detailed information on product development and dissemination will be collected as a part of 10 case studies (5 in each alternating year) to be conducted in the next three years of the evaluation (with 10 caregivers, 20 researchers/evaluators from the network, and 20 non-network product developers). These case studies each focus on the development and dissemination of specific Network products/innovations, and include as respondents key informants who are knowledgeable about the development and dissemination of each of these products. In addition, interviews will be conducted with approximately 15 workgroup leaders. The workgroup/taskforce coordinator telephone interviews examine the role and impact of the Network's collaborative workgroups in the development and dissemination of products and innovations, and occur in alternating years, opposite the case studies. This study utilizes the three instruments discussed above: The PDDS, the case study interview guide, and the workgroup/taskforce coordinator interview guide.

National Impact

This study examines the extent to which the existence of the NCTSN has impacted trauma-informed services information, knowledge, policy, and practices among mental health and non-mental health child-serving agencies external to the Network. The National Impact Survey collects data about these agencies' knowledge and awareness of childhood trauma and practices, about their knowledge and connections to the NCTSN centers, and about their policies, practices, and programs targeted to children and adolescents who have been exposed to traumatic experiences. The survey is administered to 1,600 mental health and 1,600 non-mental health service providers from outside the NCTSN. These mental health agency and non-mental health agency data will be collected in alternating years over the course of the evaluation. This study includes a single instrument, the National Impact Survey.

This revision to the currently approved information collection activities includes the extension of Cross-site Evaluation information collection activities for an additional three years beyond the initial three-year approval period. This revision also addresses the following programmatic changes:

• The Trauma-informed Services Survey was shortened to reduce burden in response to NCTSN center feedback, removing four pages from the original 11 page survey. The dropped items focused primarily on the overall content of the training, including types of trauma addressed in the training and specific topics covered in the training.

• The Product Development and Dissemination Survey data is now gathered from an existing quarterly report rather than from a stand-alone instrument,

• GAAS provider respondents are now recruited from the pool of TIS Survey respondents who indicate a willingness to participate in future surveys. In the past, these respondents were recruited using a stand-alone invitation distributed at training events.

The average annual respondent burden is estimated below.

Instrument | Number of respondents | Total avg. number of responses per respondent | Hours per response | Total burden hours | 3 yr. avg. annual burden hours
Caregivers
Child Behavior Checklist 1.5-5/6-18 (CBCL 1.5-5/6-18) | 2,475 | 5 | 0.3 | 4,084 | 1,361
Trauma Information/Detail Form | 2,475 | 5 | 0.2 | 2,723 | 908
Core Clinical Characteristics Form | 2,475 | 5 | 0.4 | 4,950 | 1,650
Youth Services Survey for Families (YSS-F) | 2,475 | 1 | 0.1 | 198 | 66
UCLA-PTSD Short Form (UCLA-PTSD) | 2,475 | 5 | 0.2 | 2,104 | 701
Case Study Interviews | 10 | 1 | 1.5 | 15 | 5
Youth
Trauma Symptoms Checklist for Children-Abbreviated (TSCC-A) | 1,881 | 5 | 0.3 | 3,104 | 1,035
Service Providers
Provider Trauma-informed Services Survey (TIS) | 29,250 | 1 | 0.2 | 5,850 | 1,950
General Adoption Assessment Survey (GAAS) Providers | 14,040 | 1 | 0.5 | 7,020 | 2,340
Adoption and Implementation Factors Interview (AIFI) Provider Assessment & Clinical Components | 150 | 1 | 1.0 | 150 | 50
Project Directors/Principal Investigators
Product/Innovations Development and Dissemination Survey (PDDS) | 44 | 12 | 1.0 | 528 | 176
General Adoption Assessment Survey (GAAS) Administrators | 44 | 3 | 0.5 | 66 | 22
Adoption and Implementation Factors Interview (AIFI) Administrator Assessment & Clinical Components | 45 | 1 | 1.0 | 45 | 15
Network Survey | 84 | 1 | 1.0 | 84 | 28
Other Network Staff
TIS Training Summary Form | 1,463 | 1 | .1 | 122 | 41
Workgroup/Taskforce Coordinator Interview | 15 | 1 | 1.5 | 23 | 8
Case Study Interviews | 20 | 1 | 2.0 | 40 | 13
General Adoption Assessment Survey (GAAS) Evaluators | 44 | 3 | 0.5 | 66 | 22
Adoption and Implementation Factors Interview (AIFI) | 30 | 1 | 1.0 | 30 | 10
Network Survey | 44 | 1 | 1.0 | 44 | 15
Child Trauma Partnership Tool (CTPT) | 200 | 2 | 0.8 | 320 | 107
Non-Network Mental Health Professionals
National Impact Survey | 1,600 | 1 | 0.5 | 800 | 267
Non-Network Non-Mental Health Professionals
National Impact Survey | 1,600 | 2 | 0.5 | 1,600 | 533.
Non-Network Product Developers
Case Study Interviews | 20 | 1 | 1.5 | 30 | 10
Total Summary | 62,959 | 61 |  |  | 33,996
Total Annual Summary | 20,986 | 20 |  |  | 11,333

Written comments and recommendations concerning the proposed information collection should be sent by April 20, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 12, 2009.
Elaine Parry,
Director, Office of Program Services.

[FR Doc. E9-5976 Filed 3-18-09; 8:45 am]

BILLING CODE 4162-20-P